ENVIRONMENTAL PROTECTION AGENCY

[EPA-R10-OAR-2013-0005: FRL-9931-60-Region 10]

Adequacy Determination for the Klamath Falls, Oregon PM2.5 State Implementation Plan for Transportation Conformity Purposes

AGENCY: Environmental Protection Agency (EPA).

ACTION: Notice of adequacy determination.

SUMMARY: The Environmental Protection Agency (EPA) is notifying the public of its finding that the motor vehicle emissions budgets (MVEBs) for particulate matter with an aerodynamic diameter of a nominal 2.5 microns or less (PM2.5) and nitrogen oxides (NOX) in the Klamath Falls PM2.5 state implementation plan (SIP or attainment plan) are adequate for transportation conformity purposes. The attainment plan was submitted to the EPA by the State of Oregon Department of Environmental Quality (DEQ or the State) on December 12, 2012, with a clarification to the MVEB submitted on December 19, 2013. As a result of this adequacy finding, the Oregon DEQ, the Oregon Department of Transportation, and the U.S. Department of Transportation will be required to use these MVEBs for future transportation conformity determinations.

DATES: This finding is effective August 17, 2015.

FOR FURTHER INFORMATION CONTACT: The finding will be available at the EPA's conformity Web site: http://www.epa.gov/otaq/stateresources/transconf/adequacy.htm. You may also contact Dr. Karl Pepple, U.S. EPA, Region 10 (OAWT-107), 1200 Sixth Ave., Suite 900, Seattle WA 98101; (206) 553-1778; or by email at pepple.karl@epa.gov.

SUPPLEMENTARY INFORMATION: This action provides notice of the EPA's adequacy finding regarding the MVEBs located in the attainment plan for the 2006 PM2.5 national ambient air quality standards for purposes of transportation conformity. The EPA's finding was made pursuant to the adequacy review process for state attainment plan submissions delineated at 40 CFR 93.118(f)(1) under which the EPA reviews the adequacy of an attainment plan submission prior to the EPA's final action on the attainment plan.

Before the attainment plan was submitted to the EPA, consultation among federal, State, and local agencies occurred. Full attainment plan documentation was provided to EPA, and EPA's stated concerns were addressed. The State submitted the attainment plan to the EPA on December 12, 2012 with a clarification to the MVEBs submitted on December 19, 2013. Pursuant to 40 CFR 93.118(f)(1), the EPA notified the public of its receipt of this plan and its review for an adequacy determination on the EPA's Web site and requested public comment by no later than April 9, 2015. The EPA received no comments on the plan during the comment period. As part of our analysis, we also reviewed the State's compilation of public comments and response to comments that were submitted during the State's public process for the attainment plan. The State subsequently provided a clarification to the MVEBs in the attainment plan on December 19, 2013. The EPA finds that the MVEBs in the attainment plan, as clarified, are adequate for purposes of transportation conformity. There were no other comments directed at the on-road portion of the attainment plan that were submitted during the State public process.

The EPA notified Oregon DEQ in a letter dated June 24, 2015 (adequacy letter), subsequent to the close of the EPA comment period, that the EPA had found the MVEBs located in the attainment plan to be adequate for use in transportation conformity. A copy of the adequacy letter and its enclosure are available in the docket for this action and at the EPA's conformity Web site: http://www.epa.gov/otaq/stateresources/transconf/adequacy.htm. The MVEBs that the EPA determined to be adequate for purposes of transportation conformity are listed in the following table.

2014 Motor Vehicle Emissions Budgets for Klamath Falls
PM2.5 | 699 lbs/day.
NOX | 4,834 lbs/day.

Transportation conformity is required by section 176(c) of the Clean Air Act. Transportation conformity to an attainment plan means that on-road transportation activities will not produce new air quality violations, worsen existing violations, or delay timely attainment of the national ambient air quality standards. The minimum criteria by which we determine whether an attainment plan is adequate for conformity purposes are specified at 40 CFR 93.118(e)(4). The EPA's analysis of how the attainment plan satisfies these criteria is found in the adequacy letter and its enclosure. The EPA's adequacy review is separate from the EPA's attainment plan completeness review and it is not dispositive of the EPA's ultimate action on the attainment plan.

Authority: 42 U.S.C. 7401-767Iq.

Dated: July 15, 2015.
Dennis J. McLerran,
Regional Administrator, Region 10.

[FR Doc. 2015-18832 Filed 7-30-15; 8:45 am]

BILLING CODE 6560-50-P